DEPARTMENT OF HEALTH AND HUMAN SERVICES

National Institutes of Health

Center for Scientific Review; Amended Notice of Meeting

Notice is hereby given of a change in the meeting of the Center for Scientific Review Special Emphasis Panel, February 14, 2005, 3 p.m. to February 14, 2005, 6 p.m., National Institutes of Health, 6701 Rockledge Drive, Bethesda, MD 20892 which was published in the Federal Register on February 8, 2005, 70 FR 6720-6721.

The meeting will be held March 14, 2005, from 1 p.m. to 2 p.m. The location remains the same. The meeting is closed to the public.

Dated: February 16, 2005.
LaVerne Y. Stringfield,
Director, Office of Federal Advisory Committee Policy.

[FR Doc. 05-3556 Filed 2-23-05; 8:45 am]

BILLING CODE 4140-01-M